DEPARTMENT OF HOUSING AND URBAN DEVELOPMENT

[Docket No. FR-4558-N-10]

Mortgagee Review Board; Administrative Actions

AGENCY: Office of the Assistant Secretary for Housing-Federal Housing Commissioner, HUD.

ACTION: Notice.

SUMMARY: In compliance with section 202(c) of the National Housing Act, this document provides notice of the cause and description of administrative actions taken by HUD's Mortgagee Review Board against HUD-approved mortgagees.

FOR FURTHER INFORMATION CONTACT: Phillip A. Murray, Director, Office of Lender Activities and Program Compliance, Room B-133-3214 L'Enfant Plaza, 451 Seventh Street, SW, Washington, DC 20410, telephone: (202) 708-1515. (This is not a toll-free number.) A Telecommunications Device for Hearing and Speech-Impaired Individuals (TTY) is available at 1-800-877-8339 (Federal Information Relay Service).

SUPPLEMENTARY INFORMATION: Section 202(c)(5) of the National Housing Act (added by section 142 of the Department of Housing and Urban Development Reform Act of 1989, Pub. L. 101-235, approved December 15, 1989) requires that HUD publish a description of and the cause for administrative actions against a HUD-approved mortgagee by the Department's Mortgagee Review Board. In compliance with the requirements of section 202(c)(5), this document gives notice of administrative actions that have been taken by the Mortgagee Review Board from October 1, 2001 through March 31, 2002, for failure to submit the required annual audit statement, an acceptable annual audited financial statement, and/or the required annual recertification fee.

Title I Lenders and Title II Mortgagees That Failed To Comply With HUD/FHA Requirements for the Submission of an Audited Annual Financial Statement and/or Payment of the Annual Recertification Fee

Action: Withdrawal of HUD/FHA Title I lender approval and Title II mortgagee approval.

Cause: Failure to submit to the Department the required annual audited financial statement, an acceptable annual audited financial statement, and/or remit the required annual recertification fee.

66 Title I Lenders and Loan Correspondents Terminated Between October 1, 2001 and March 31, 2002
Lender name | City | State
A S H ELITE FUNDING CORP | LOS ANGELES | CA
AEGIS SECURITIZED ASSETS INC | MARIETTA | GA
ALAMOGORDO FEDERAL S-L ASSN | ALAMOGORDO | NM
ALL PACIFIC FINANCIAL INC | ENCINO | CA
ALLIED LENDING CORPORATION | TUSTIN | CA
ANCHORBANC MORTGAGE CORPORATION WEST | CONVINA | CA
APEX MORTGAGE CORPORATION | STANTON | CA
ARBOR LENDING CORP | MIAMI | FL
BANKERS MORTGAGE GROUP | WOODLAND HILLS | CA
CALIF CHARTERED GROUP FINANCIAL CORP | DIAMOND BAR | CA
CAPITAL ACCEPTANCE CORPORATION | INDIANAPOLIS | IN
CITYWIDE BANKS | AURORA | CO
CONSORCIO LENDING INC | FONTANA | CA
COOP AHY CR EMPL PUEBLO INC | CAROLINA | PR
CRUSADER BANK | PHILADELPHIA | PA
DARWAL CORPORATION | OXNARD | CA
EAGLE FUNDING CORPORATION RANCHO | CORDOVA | CA
EAST WEST FINANCIAL CORP | MARGATE | FL
EXPRESS FINANCIAL CORP BOCA | RATON | FL
F AND M BANK | WATERTOWN | SD
FIRST CALIFORNIA LENDING SERV | COVINA | CA
FIRST CHOICE LOANS INC | COVINA | CA
FIRST FREEDOM FINANCIAL INC RANCHO | CUCAMONGA | CA
FIRST NATIONAL BANK | TONKAWA | OK
FIRST SECURITY STATE BANK | DETROIT LAKES | MN
FIRST SUBURBAN CORP MTG BANKERS | SANTA ANA HEIGHTS | CA
FUNDING CENTRE INC | FAIR OAKS | CA
GIBRALTAR SAVINGS BANK SLA | NEWARK | NJ
HEARTLAND COMMUNITY BANK | CAMDEN | AR
HERITAGE PLAZA MORTGAGE INC | STOCKTON | CA
HILTON FINANCIAL GROUP | VICTORVILLE | CA
INTERBANK FUNDING GROUP | SAN DIEGO | CA
INTERSTATE MORTGAGE ALLIANCE CORP | RANCHO CUCAMONGA | CA
LAMAS LOANS INC | PLEASANTON | CA
LEGEND FINANCIAL GROUP INC | POWAY | CA
LENDERS SPECTRUM MORTGAGE CORP | LAKE ELSINORE | CA
M AND I LAKEVIEW BANK | SHEBOYGAN | WI
MAINSTREET MORTGAGE MAKERS INC | ROSWELL | GA
MERIT MORTGAGE INC | PLANO | TX
MORTGAGE MAX INC | POWAY | CA
MORTGAGE ONE CORPORATION | HESPERIA | CA
N I PACIFICA INC | COSTA MESA | CA
NATIONAL EXPRESS MORTGAGE CORP | LA PALMA | CA
NATIONS MORTGAGE CORPORATION | WINTER SPRINGS | FL
NEWWEST MORTGAGE CO | DOWNEY | CA
NTM INC | TURLOCK | CA
OLYMPIAN MORTGAGE CORP | TAMPA | FL
PAVON FINANCIAL CORPORATION | DOWNEY | CA
PENINSULA COMMUNITY FED CU | SHELTON | WA
PEOPLES BANK | MARION | KY
POWER FUNDING GROUP INC | WILLIAMSVILLE | NY
QUEST HOME LOANS INC | OXNARD | CA
RAVENNA SAVINGS BANK | RAVENNA | OH
SALIDA BUILDING AND LOAN ASSOCIATION | SALIDA | CO
SEASONS MORTGAGE GROUP INC | RICHMOND | VA
SECURITY SAVINGS ASSN | HAZELTON | PA
SMC LENDING INC | TEMECULA | CA
SOUTHERN CAPITAL RESOURCES | BIRMINGHAM | AL
SOUTHERN MORTGAGE INVESTMENT CORP | MARIETTA | GA
SUPERIOR BANK FSB OAKBROOK | TERRACE | IL
TUCKER FEDERAL BANK | AUGUSTA | GA
U S MORTGAGE AND ACCEPTANCE CORP | TUSTIN | CA
ULTIMATE FUNDING CORP | TUSTIN | CA
VPM FUNDING COMPANY | DENVER | CO
WESTLEND FINANCING INC | LOS ANGELES | CA

94 Title II Mortgagees and Loan Correspondents Terminated Between October 1, 2001 and March 31, 2002
Mortgagee name | City | State
ACCESS FINANCIAL GROUP | FOUNTAIN VALLEY | CA
ALAMOGORDO FEDERAL SAVINGS AND LN ASSN | ALAMOGORDO | NM
AMERICAN CHARTER MORTGAGE | DOWNEY | CA
AMERICAN HOMEBUYING CENTER INC | LA PALMA | CA
AMERIPRIDE MORTGAGE INC | CORAL SPRINGS | FL
ARBOR LENDING CORP | MIAMI | FL
BAYPORT MORTGAGE LP | LAKEWOOD | WA
BELL MORTGAGE CORP | CHINO | CA
BINH DINH TRAN | HUNTINGTON BEACH | CA
BLAIR MORTGAGE COMPANY INCORP | DANVILLE | CA
BUILDERS MORTGAGE SERVICES LP | ALTAMONTE SPRINGS | FL
CALIFORNIA CHARTERED GROUP FIN | DIAMOND BAR | CA
CALIFORNIA WHOLESALE LENDERS INC | NEW HALL | CA
COMMERCE BANK OF AURORA | AURORA | CO
COMMUNITY MORTGAGE CORP | HAGATNA | GU
COUNTY BANK | FOREST LAKE | MN
CRB TRUST MORTGAGE LTD | MIAMI | FL
DACKO FINANCIAL INC | PAHRUMP | NV
DICKINSON LOGAN TODD BARBER | RALEIGH | NC
EAGLE FUNDING CORPORATION | RANCHO CORDOVA | CA
EDGR FINANCIAL INC | OFALLON | MO
FAMILY HOME MORTGAGE CO INC | DANBURY | CT
FEDERAL MORTGAGE FUNDING INC | LEMON GROVE | CA
FIDELITY FINANCIAL MORTGAGE CORP | NORCROSS | GA
FINANCE PLUS REAL ESTATE | CHULA VISTA | CA
FIRESIDE MORTGAGE CO | ENGLEWOOD | CO
FIRST AMERICANS MORTGAGE CORP | OVERLAND PARK | KS
FIRST CHOICE LOANS INC | COVINA | CA
FIRST FEDERAL SAVINGS AND LOAN | GALION | OH
FIRSTLINE MORTGAGE INC | LONG BEACH | CA
FREESTATE MORTGAGE COMPANY INC | TOWSON | MD
GENESIS MORTGAGE CORPORATION | EVANSTON | IL
GLOBAL HOLDINGS II LLC | KIRKLAND | WA
GRAFTON SUBURBAN CREDIT UNION | NORTH GRAFTON | MA
GUARDIAN SAVINGS AND LOAN ASSOCIATION | HOUSTON | TX
HARRIS-CHAMBERLAIN COMPANY | FORT WORTH | TX
HILTON FINANCIAL GROUP | VICTORVILLE | CA
HOME FUNDING GROUP INC | WALNUT | CA
HOMEQUEST MORTGAGE CORPORATION | NEWPORT BEACH | CA
HOMESTEAD SAVINGS BANK FSB | ALBION | MI
HUDSON RIVER MORTGAGE CORPORATION | ALBANY | NY
IAG MORTGAGE SERVICES | TEMPLE | TX
INDEPENDENT ADVISORS MTG CORP | BLOOMINGDALE | IL
INTERBANK FUNDING GROUP | SAN DIEGO | CA
INTERNATIONAL BROTHERHOOD WKRS | WASHINGTON | DC
IROQUOIS FEDERAL SAVINGS AND LOAN ASSN | WATSEKA | IL
K AND R FINANCIAL INC | LARGO | FL
KATY FINANCIAL SERVICES LP | KATY | TX
KINGWAY CAPITAL INC | WESTLAKE VILLAGE | CA
LAMAS LOANS INC | PLEASANTON | CA
LAUREL SAVINGS BANK | ALLISON PARK | PA
LENDERS SPECTRUM MORTGAGE | LAKE ELSINORE | CA
LIBERTY FEDERAL BANK S B | EUGENE | OR
LILAC CITY MORTGAGE INC | SPOKANE | WA
LOANCOR INC | CARLSBAD | CA
LOANGENIE-COM INC | IRVINE | CA
MCA MORTGAGE CORPORATION | SOUTHFIELD | MI
MEMBERS LOAN SERVICES | SAN DIEGO | CA
MERIT FINANCIAL CORPORATION | PARSIPPANY | NJ
MIDWEST MORTGAGE CONNECTION INC | LAKE IN THE HILLS | IL
MILE HIGH MORTGAGE SERVICES LLLP | DENVER | CO
MORNING STAR REAL EST AND MTG FIN CORP | MASSAPEQUA | NY
MORTGAGE CLIK INC | ALBUQUERQUE | NM
OLYMPIAN MORTGAGE CORPORATION | TAMPA | FL
PAVON FINANCIAL CORPORATION | DOWNEY | CA
PEOPLES MORTGAGE COMPANY LP | LAREDO | TX
PERMANENT FEDERAL SAVINGS BANK | EVANSVILLE | IN
PLUM CREEK FINANCIAL CORP | CASTLE ROCK | CO
PONCE DE LEON FEDERAL SAVINGS AND LOAN | CORAL GABLES | FL
PRESTAR FINANCIAL CORPORATION | SANTA ANA | CA
PRIME TIME LENDING INC | CARLSBAD | CA
PROGRESSIVE MORTGAGE CORP | ELK GROVE | CA
ROYAL MORTGAGE PARTNERS LP | ORANGE | CA
SALCORP MORTGAGAE | LAGUNA HILLS | CA
SALIDA BUILDING AND LOAN ASSOCIATION | SALIDA | CO
SAMMELMAN MORTGAGE INC | WES COVINA | CA
SIMPLIFIED MORTGAGE GROUP INC | TROY | MI
SMC LENDING INC | TEMECULA | CA
SOMMERS FINANCIAL INC | LONG BEACH | CA
SOUTHERN FIRST MORTGAGE CORP | DURHAM | NC
STARNET MORTGAGE | DALLAS | TX
SUGAR BEACH LLC | MEMPHIS | TN
SUPERIOR BANK FSB | OAKBROOK TERRACE | IL
TAYLOR COUNTY BANK | CAMPBELLSVILLE | KY
TDC MORTGAGE CORP | LAS VEGAS | NV
TRINITY MORTGAGE CO OF DALLAS | LAFAYETTE | IN
ULTIMATE FUNDING CORP | TUSTIN | CA
UNI-STATE FUNDING INC | BIG BEAR LAKE | CA
US MORTGAGE CAPITAL INC | ROCKVILLE | MD
WALDOBORO BANK FSB | WALDOBORO | ME
WASHINGTON MORTGAGE INVESTMENT CORP | ROCKVILLE | MD
WASHINGTON SAVINGS ASSOCIATION | PHILADELPHIA | PA
WENTWORTH ENTERPRISES INC | FREMONT | CA
WESTERN HILLS MORTGAGE CORP | GARDEN GROVE | CA

Dated: June 26, 2002.
John C. Weicher,
Assistant Secretary for Housing-Federal Housing Commissioner, Chairman, Mortgagee Review Board.

[FR Doc. 02-16515 Filed 6-28-02; 8:45 am]

BILLING CODE 4210-27-P